DEPARTMENT OF EDUCATION

Applications for New Awards; Basic Needs for Postsecondary Students Program

AGENCY: Office of Postsecondary Education, Department of Education.

ACTION: Notice.

SUMMARY: The Department of Education (Department) is issuing a notice inviting applications (NIA) for new awards for fiscal year (FY) 2022 for the Basic Needs for Postsecondary Students Program, Assistance Listing Number 84.116N. This notice relates to the approved information collection under OMB control number 1894-0006.

DATES: Applications Available: August 2, 2022.

Deadline for Transmittal of Applications: October 3, 2022.

Deadline for Intergovernmental Review: November 30, 2022.

ADDRESSES: For the addresses for obtaining and submitting an application, please refer to our Common Instructions for Applicants to Department of Education Discretionary Grant Programs, published in the Federal Register on December 27, 2021 (86 FR 73264) and available at www.federalregister.gov/d/2021-27979. Please note that these Common Instructions supersede the version published on February 13, 2019, and, in part, describe the transition from the requirement to register in SAM.gov a Data Universal Numbering System (DUNS) number to the implementation of the Unique Entity Identifier (UEI). More information on the phase-out of DUNS numbers is available at https://www2.ed.gov/about/offices/list/ofo/docs/unique-entity-identifier-transition-fact-sheet.pdf.

FOR FURTHER INFORMATION CONTACT: Njeri Clark, U.S. Department of Education, 400 Maryland Avenue SW, Room 2B168, Washington, DC 20202-4260. Telephone: (202) 453-6224. Email: Njeri.Clark@ed.gov.

If you are deaf, hard of hearing, or have a speech disability and wish to access telecommunications relay services, please dial 7-1-1.

SUPPLEMENTARY INFORMATION:

Full Text of Announcement

I. Funding Opportunity Description

Purpose of Program: The Basic Needs for Postsecondary Students Program provides grants to eligible institutions of higher education (IHEs) to support programs that address the basic needs of students and to report on practices that improve outcomes for students.

Background: The Basic Needs for Postsecondary Students Program supports IHEs that demonstrate a commitment to developing or enhancing systemic approaches to support the basic needs of students. There is growing evidence that food and housing insecurities compromise the well-being of millions of students across the country, which may reduce the odds that they will complete their degrees or certificates.

The U.S. Government Accountability Office analyzed dozens of studies and found rates of food insecurity among college students were typically reported at more than 30 percent.¹ Studies show that, if a student has not eaten sufficient nutritious food or slept the night before a class or exam, they will have greater difficulty mastering the material and performing well.² Students experiencing housing insecurity have lower degree attainment and grade point averages and a higher probability of enrolling part-time rather than full-time.³ Similarly, a recent study of more than 195,000 students attending 202 colleges and universities in 42 States by the Hope Center for College, Community, and Justice found that three in five students do not have enough to eat or a safe place to live, and 14 percent were experiencing homelessness.⁴ The same study reported that students of color are more likely to experience basic needs insecurity than their White peers. For students at both 2- and 4-year institutions, 75 percent of Indigenous students, 70 percent of Black students, and 64 percent of Hispanic or Latino students experienced basic needs insecurity, compared with 54 percent of White students.

¹ Government Accountability Office. (2018). Food Insecurity: Better Information Could Help Eligible College Students Access Federal Food Assistance Benefits. Retrieved from https://www.gao.gov/assets/gao-19-95.pdf.

² Government Accountability Office. (2018). Food Insecurity: Better Information Could Help Eligible College Students Access Federal Food Assistance Benefits. Retrieved from https://www.gao.gov/assets/gao-19-95.pdf. Hershner, S.D., & Chervin, R.D. (2014). Causes and Consequences of Sleepiness Among College Students. Nature and Science of Sleep, 6, 73-84.

³ Broton, Katharine, M. (2021). Poverty in American Higher Education: The Relationship Between Housing Insecurity and Academic Attainment. Journal of Postsecondary Student Success. Retrieved from https://journals.flvc.org/jpss/article/view/129147.

⁴ The Hope Center for College, Community, and Justice. (2021) #RealCollege 2021: Basic Needs Insecurity During the Ongoing Pandemic. Retrieved from https://hope4college.com/rc2021-bni-during-the-ongoing-pandemic/.

Supporting students' basic needs has many benefits for colleges and universities, including boosting academic performance, promoting retention and degree completion, reducing the barriers that returning adults face, and creating bridges between the institution and community organizations.⁵ Applicants are encouraged to identify partnerships with entities that can help facilitate the coordination of public benefits. Examples of this may include changes in processes and data sharing and streamlining access to resources and services that students can more easily navigate to address their basic needs. Partnerships may include, but are not limited to, Federal, State, or local agencies, other IHEs, nonprofit organizations, philanthropic organizations, community-based organizations, and businesses. Examples of the resources and services that could be provided through these strategic partnerships are outreach activities, job training, housing voucher application assistance, access to food banks, childcare services, advising and referral programs, public benefits enrollment assistance, direct financial assistance, etc. A systematic approach that addresses the diverse needs and array of issues faced by students relies on creating partnerships and cross-agency collaboratives that are both sustainable and scalable.

⁵ hope4college.com/wp-content/uploads/2020/02/2019_RealCollege_Survey_Report.pdf.

To this end, this competition is designed to promote student success by supporting interventions and programs that holistically address the basic needs of students and reporting on those practices that improve student outcomes. In addition to the absolute priorities, we have included a competitive preference priority to promote comprehensive supports to students. This competitive preference priority furthers the goals of the program by supporting projects that meet the needs of the whole student.

Priorities: This notice contains two absolute priorities and one competitive preference priority. These priorities are from the Secretary's Supplemental Priorities and Definitions for Discretionary Grants Programs, published in the Federal Register on December 10, 2021 (86 FR 70612) (Supplemental Priorities).

Absolute Priorities: For FY 2022 and any subsequent year in which we make awards from the list of unfunded applications from this competition, these priorities are absolute priorities. Under 34 CFR 75.105(c)(3), we consider only applications that meet each of these priorities.

These priorities are:

Absolute Priority 1—Strengthening Cross-Agency Coordination and Community Engagement To Advance Systemic Change.

Projects that are designed to take a systemic evidence-based approach to improving outcomes for underserved students through one or more of the following priority areas:

(a) Coordinating efforts with Federal, State, or local agencies, or community-based organizations, that support students, to address two or more of the following:

(1) Food assistance.

(2) Housing.

(3) Transportation.

(4) Health, including physical health, mental health, and behavioral health and trauma.

(5) Child care.

(6) Technology.

(b) Conducting community needs and asset mapping to identify existing programs and initiatives that can be leveraged, and new programs and initiatives that need to be developed and implemented, to advance systemic change.

(c) Establishing cross-agency partnerships, or community-based partnerships with local nonprofit organizations, businesses, philanthropic organizations, or others, to meet family well-being needs.

Absolute Priority 2—Promoting Equity in Student Access to Educational Resources and Opportunities.

Under this priority, an applicant must demonstrate that the project will be implemented by one or more of the following entities:

(1) Community colleges (as defined in this notice).

(2) Historically Black colleges and universities (as defined in this notice).

(3) Tribal Colleges and universities (as defined in this notice).

(4) Minority-serving institutions (as defined in this notice).

Competitive Preference Priority: For FY 2022 and any subsequent year in which we make awards from the list of unfunded applications from this competition, this priority is a competitive preference priority. Under 34 CFR 75.105(c)(2)(i), we will award up to an additional 10 points to an application, depending on how well the application meets this priority.

This priority is:

Meeting Student Social, Emotional, and Academic Needs (up to 10 points).

Projects that are designed to improve students' social, emotional, academic, and career development, with a focus on underserved students through creating a positive, inclusive, and identity-safe climate at institutions of higher education through one or both of the following activities:

(1) Fostering a sense of belonging and inclusion for underserved students.

(2) Implementing evidence-based practices for advancing student success for underserved students.

Definitions: The definitions of “community college,” “Historically Black colleges and universities,” “Minority-serving institution,” “student with a disability,” “Tribal Colleges or Universities,” and “underserved student” are from the Supplemental Priorities. The remaining definitions are from 34 CFR 77.1.

Community college means “junior or community college” as defined in section 312(f) of the Higher Education Act of 1965, as amended (HEA).

Demonstrates a rationale means a key project component included in the project's logic model is informed by research or evaluation findings that suggest the project component is likely to improve relevant outcomes.

Evidence-based means the proposed project component is supported by evidence that demonstrates a rationale.

Historically Black colleges and universities means colleges and universities that meet the criteria set out in 34 CFR 608.2.

Logic model (also referred to as a theory of action) means a framework that identifies key project components of the proposed project (i.e., the active “ingredients” that are hypothesized to be critical to achieving the relevant outcomes) and describes the theoretical and operational relationships among the key project components and relevant outcomes.

Note: In developing logic models, applicants may want to use resources such as the Pacific Education Laboratory's Logic Model Application (www.ies.ed.gov/ncee/edlabs/regions/pacific/elm.asp).

Minority-serving institution means an institution that is eligible to receive assistance under sections 316 through 320 of part A of title III, under part B of title III, or under title V of the HEA.

Project component means an activity, strategy, intervention, process, product, practice, or policy included in a project. Evidence may pertain to an individual project component or to a combination of project components (e.g., training teachers on instructional practices for English learners and follow-on coaching for these teachers).

Relevant outcome means the student outcome(s) or other outcomes(s) the key project component is designed to improve, consistent with the specific goals of the program.

Students with disabilities means children with disabilities as defined in section 602(3) of the Individuals with Disabilities Education Act (IDEA) (20 U.S.C. 1401(3)) and 34 CFR 300.8, or students with disabilities, as defined in the Rehabilitation Act of 1973 (29 U.S.C. 705(37), 705(20)(B)).

Tribal colleges or universities has the meaning ascribed it in section 316(b)(3) of the HEA.

Underserved student means a student in postsecondary education in one or more of the following subgroups:

(a) A student of color.

(b) A student who is a member of a federally recognized Indian Tribe.

(c) A student with a disability.

(d) A student experiencing homelessness or housing insecurity.

(e) A lesbian, gay, bisexual, transgender, queer, or intersex (LGBTQI+) student.

(f) A student formerly in foster care.

(g) A pregnant, parenting, or caregiving student.

(h) A student who is the first in their family to attend postsecondary education.

(i) A student enrolling in or seeking to enroll in postsecondary education for the first time at the age of 20 or older.

(j) A student who is enrolled in or is seeking to enroll in postsecondary education who is eligible for a Pell Grant.

Program Authority: 20 U.S.C. 1138-1138d; and the Explanatory Statement accompanying Division H of the Consolidated Appropriations Act, 2022 (Pub. L. 117-103) (Explanatory Statement).

Note: Projects will be awarded and must be operated in a manner consistent with the nondiscrimination requirements contained in the Federal civil rights laws.

Applicable Regulations: (a) The Education Department General Administrative Regulations in 34 CFR parts 75, 77, 79, 82, 84, 86, 97, 98, and 99. (b) The Office of Management and Budget (OMB) Guidelines to Agencies on Governmentwide Debarment and Suspension (Non-procurement) in 2 CFR part 180, as adopted and amended as regulations of the Department in 2 CFR part 3485. (c) The Uniform Administrative Requirements, Cost Principles, and Audit Requirements for Federal Awards in 2 CFR part 200, as adopted and amended as regulations of the Department in 2 CFR part 3474. (d) The Supplemental Priorities.

II. Award Information

Type of Award: Discretionary grants.

Estimated Available Funds: $7,473,276.

Contingent upon the availability of funds and the quality of applications, we may make additional awards in subsequent fiscal years from the list of unfunded applications from this competition.

Estimated Range of Awards: $750,000 to $950,000.

Estimated Average Size of Award: $850,000.

Maximum Award: We will not make an award exceeding $950,000 for the entire project period of 36 months.

Estimated Number of Awards: 8.

Note: The Department is not bound by any estimates in this notice.

Project Period: Up to 36 months.

III. Eligibility Information

1. Eligible Applicants: Community colleges (as defined in this notice), and 2- and 4-year public and private Historically Black Colleges and Universities (as defined in this notice), Tribal Colleges and Universities (as defined in this notice), and other Minority-Serving Institutions (as defined in this notice).

Note: The notice announcing the FY 2022 process for designation of eligible institutions for programs under parts A and F of title III and programs under title V of the HEA, and inviting applications for waiver of eligibility requirements, was published in the Federal Register on December 16, 2021 (86 FR 71470). The Department extended the deadline for applications in a notice published in the Federal Register on February 7, 2022 (87 FR 6855).

For institutions other than community colleges, only institutions that the Department determines are eligible as Historically Black Colleges and Universities, Tribal Colleges and Universities, and other Minority-Serving Institutions, or which are granted a waiver under the process described in the December 16, 2021 notice, and that meet the other eligibility requirements described in this notice, may apply for a grant under those eligibility bases for this program.

2. a. Cost Sharing or Matching: This competition does not require cost sharing or matching.

b. Indirect Cost Rate Information: This program uses an unrestricted indirect cost rate. For more information regarding indirect costs, or to obtain a negotiated indirect cost rate, please see www2.ed.gov/about/offices/list/ocfo/intro.html.

c. Administrative Cost Limitation: This program does not include any program-specific limitation on administrative expenses. All administrative expenses must be reasonable and necessary and conform to Cost Principles described in 2 CFR part 200 subpart E of the Uniform Guidance.

3. Subgrantees: A grantee under this competition may not award subgrants to entities to directly carry out project activities described in its application.

IV. Application and Submission Information

1. Application Submission Instructions: Applicants are required to follow the Common Instructions for Applicants to Department of Education Discretionary Grant Programs, published in the Federal Register on December 27, 2021 (86 FR 73264) and available at www.federalregister.gov/d/2021-27979. Please note that these Common Instructions supersede the version published on February 13, 2019, and, in part, describe the transition from the requirement to register in SAM.gov a Data Universal Numbering System (DUNS) number to the implementation of the Unique Entity Identifier (UEI). More information on the phase-out of DUNS numbers is available at https://www2.ed.gov/about/offices/list/ofo/docs/unique-entity-identifier-transition-fact-sheet.pdf.

2. Submission of Proprietary Information: Given the types of projects that may be proposed in applications for the Basic Needs for Postsecondary Students Program, your application may include business information that you consider proprietary. In 34 CFR 5.11 we define “business information” and describe the process we use in determining whether any of that information is proprietary and, thus, protected from disclosure under Exemption 4 of the Freedom of Information Act (5 U.S.C. 552, as amended).

An applicant may wish to request confidentiality of business information because successful applications may be made available to the public, if requested.

Consistent with Executive Order 12600, please designate in your application any information that you believe is exempt from disclosure under Exemption 4. In the appropriate Appendix section of your application, under “Other Attachments Form,” please list the page number or numbers on which we can find this information. For additional information please see 34 CFR 5.11(c).

3. Intergovernmental Review: This competition is subject to Executive Order 12372 and the regulations in 34 CFR part 79. Information about Intergovernmental Review of Federal Programs under Executive Order 12372 is in the application package for this program.

4. Funding Restrictions: We reference additional regulations outlining funding restrictions in the Applicable Regulations section of this notice.

5. Recommended Page Limit: The application narrative is where you, the applicant, address the selection criteria that reviewers use to evaluate your application. We recommend that you (1) limit the application narrative to no more than 50 pages and (2) use the following standards:

• A “page” is 8.5″ x 11″, on one side only, with 1″ margins at the top, bottom, and both sides.

• Double-space (no more than three lines per vertical inch) all text in the application narrative, including titles, headings, footnotes, quotations, references, and captions, as well as all text in charts, tables, figures, and graphs.

• Use a font that is either 12 point or larger, and no smaller than 10-pitch (characters per inch).

• Use one of the following fonts: Times New Roman, Courier, Courier New, or Arial.

The recommended page limit applies to the Project Narrative, which is your complete response to the selection criteria, and any response to the competitive preference priorities, if applicable. However, the recommended page limit does not apply to the Application for Federal Assistance form (SF-424); the ED SF-424 Supplemental form; the Budget Information—Non-Construction Programs form (ED 524); the assurances and certifications; or the one-page project abstract and supporting budget narrative.

6. Notice of Intent to Apply: The Department will be able to review grant applications more efficiently if we know the approximate number of applicants that intend to apply. Therefore, we strongly encourage each potential applicant to notify us of their intent to submit an application. To do so, please email the program contact person listed under FOR FURTHER INFORMATION CONTACT with the subject line “Intent to Apply,” and include the applicant's name and a contact person's name and email address. Applicants that do not submit a notice of intent to apply may still apply for funding; applicants that do submit a notice of intent to apply are not bound to apply or bound by the information provided.

V. Application Review Information

1. Selection Criteria: The selection criteria for this competition are from 34 CFR 75.210. An applicant may earn up to a total of 100 points based on the selection criteria and up to 10 additional points under the competitive preference priority, for a total score of up to 110 points. The selection criteria are as follows:

a. Need for the project. (Maximum 20 points)

The Secretary considers the need for the proposed project.

In determining the need for the proposed project, the Secretary considers the following factors:

i. The magnitude of the need for the services to be provided or the activities to be carried out by the proposed project. (Up to 10 points)

ii. The extent to which specific gaps or weaknesses in services, infrastructure, or opportunities have been identified and will be addressed by the proposed project, including the nature and magnitude of those gaps or weaknesses. (Up to 10 points)

b. Quality of the project design. (Maximum 25 points)

The Secretary considers the quality of the design of the proposed project. In determining the quality of the design of the proposed project, the Secretary considers the following factors:

i. The extent to which the proposed project will integrate with or build on similar or related efforts to improve relevant outcomes (as defined in this notice), using existing funding streams from other programs or policies supported by community, State, and Federal resources. (Up to 10 points)

ii. The extent to which the proposed project demonstrates a rationale (as defined in this notice). (Up to 5 points)

iii. The extent to which the design of the proposed project is appropriate to, and will successfully address, the needs of the target population or other identified needs. (Up to 10 points)

c. Quality of project services. (Maximum 30 points)

The Secretary considers the quality of the services to be provided by the proposed project.

i. In determining the quality of the services to be provided by the proposed project, the Secretary considers the quality and sufficiency of strategies for ensuring equal access and treatment for eligible project participants who are members of groups that have traditionally been underrepresented based on race, color, national origin, gender, age, or disability. (Up to 10 points)

In addition, the Secretary considers the following factors:

ii. The likely impact of the services to be provided by the proposed project on the intended recipients of those services. (Up to 10 points)

iii. The extent to which the services to be provided by the proposed project involve the collaboration of appropriate partners for maximizing the effectiveness of project services. (Up to 10 points)

d. Quality of the management plan. (Maximum 15 points)

The Secretary considers the quality of the management plan for the proposed project. In determining the quality of the management plan for the proposed project, the Secretary considers the adequacy of the management plan to achieve the objectives of the proposed project on time and within budget, including clearly defined responsibilities, timelines, and milestones for accomplishing project tasks.

e. Quality of the project evaluation. (Maximum 10 points)

The Secretary considers the quality of the evaluation to be conducted of the proposed project. In determining the quality of the evaluation, the Secretary considers the following factors:

i. The extent to which the methods of evaluation are thorough, feasible, and appropriate to the goals, objectives, and outcomes of the proposed project. (Up to 5 points)

ii. The extent to which the methods of evaluation include the use of objective performance measures that are clearly related to the intended outcomes of the project and will produce quantitative and qualitative data to the extent possible. (Up to 5 points)

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

For this competition, a panel of external reviewers will read, prepare a written evaluation of, and score all eligible applications using the selection criteria and the competitive preference priority, if applicable, provided in this notice. The individual scores of the reviewers will be added and the sum divided by the number of reviewers to determine the peer review score. The Department may use more than one tier of reviews in evaluating grantees. The Department will prepare a rank order of applications based on the evaluation of their quality according to the selection criteria and competitive preference priority points. Additional factors we consider in selecting an application for an award are the relative number of community colleges and 4-year HBCUs, HSIs, and other MSIs on the slate (Explanatory Statement).

In the event there are two or more applications with the same final score in the rank order listing, and there are insufficient funds to fully support each of these applications, the Department will apply the following procedure to determine which application or applications will receive an award:

First Tiebreaker: The first tiebreaker will be the application with the highest percentage of degree/certificate-seeking students who are Pell grant recipients. If a tie remains, a second tiebreaker will be utilized.

Second Tiebreaker: The second tiebreaker will be the highest average score for the selection criterion “Quality of Project Services.” If a tie remains, a third tiebreaker will be utilized.

Third Tiebreaker: The third tiebreaker will be the highest average score for the selection criterion “Quality of the Project Design.” If a tie remains, a fourth tiebreaker will be utilized.

Fourth Tiebreaker: The fourth tiebreaker will be the highest average score for the selection criterion “Need for the Project.”

3. Risk Assessment and Specific Conditions: Consistent with 2 CFR 200.206, before awarding grants under this program, the Department conducts a review of the risks posed by applicants. Under 2 CFR 200.208, the Secretary may impose specific conditions and, under 2 CFR 3474.10, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $250,000), under 2 CFR 200.206(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

5. In General: In accordance with the Office of Management and Budget's guidance located at 2 CFR part 200, all applicable Federal laws, and relevant Executive guidance, the Department will review and consider applications for funding pursuant to this notice inviting applications in accordance with:

(a) Selecting recipients most likely to be successful in delivering results based on the program objectives through an objective process of evaluating Federal award applications (2 CFR 200.205);

(b) Prohibiting the purchase of certain telecommunication and video surveillance services or equipment in alignment with section 889 of the National Defense Authorization Act of 2019 (Pub. L. 115-232) (2 CFR 200.216);

(c) Providing a preference, to the extent permitted by law, to maximize use of goods, products, and materials produced in the United States (2 CFR 200.322); and

(d) Terminating agreements in whole or in part to the greatest extent authorized by law if an award no longer effectuates the program goals or agency priorities (2 CFR 200.340).

VI. Award Administration Information

1. Award Notices: If your application is successful, we notify your U.S. Representative and U.S. Senators and send you a GAN; or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements, please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

(c) Under 34 CFR 75.250(b), the Secretary may provide a grantee with additional funding for data collection analysis and reporting. In this case, the Secretary establishes a data collection period.

5. Performance Measures: For purposes of Department reporting under 34 CFR 75.110, the Department will use the following performance measures to evaluate the success of the Basic Needs for Postsecondary Students Program:

(1) The percentage of underserved students served by any direct student service supported by the grant.

(2) The annual persistence rate at grantee institutions for all students who are served by any direct student service supported by the grant.

(3) The annual rate of degree or certificate completion at grantee institutions for all students served by any direct student service supported by the grant.

(4) The level of basic needs insecurity among all students measured before and after implementation of the grant.

VII. Other Information

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site, you can view this document, as well as all other documents of this Department published in the Federal Register, in text or Portable Document Format (PDF). To use PDF, you must have Adobe Acrobat Reader, which is available free at the site.

You may also access documents of the Department published in the Federal Register by using the article search feature at www.federalregister.gov. Specifically, through the advanced search feature at this site, you can limit your search to documents published by the Department.

Michelle Asha Cooper,
Acting Assistant Secretary for the Office of Postsecondary Education.

[FR Doc. 2022-16489 Filed 8-1-22; 8:45 am]

BILLING CODE 4000-01-P